DEPARTMENT OF THE INTERIOR

Fish and Wildlife Service

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before April 28, 2004.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave. SW., Room 4102, Albuquerque, New Mexico. Please refer to the respective permit number for each application when submitting comments. All comments received, including names and addresses, will become part of the official administrative record and may be made available to the public.

FOR FURTHER INFORMATION CONTACT: Chief, Endangered Species Division, (505) 248-6922.

SUPPLEMENTARY INFORMATION:

Permit No. TE-083049

Applicant: John R. Alexander, Fort Worth, Texas.

Applicant requests a new permit for research and recovery purposes to conduct presence/absence surveys and nest monitoring for interior least tern (Sterna antillarum) within Texas.

Permit No. TE-028986

Applicant: ASM Affiliates, Inc., Encinitas, California.

Applicant requests a new permit for research and recovery purposes to receive and house dead specimens, which will be transferred from other institutions authorized to collect them, of the following species: bonytail chub (Gila elegans), Colorado pikeminnow (Ptychocheilus lucius), desert pupfish (Cyprinodon macularius), Gila topminnow (Poeciliopsis occidentalis), humpback chub (Gila cypha), razorback sucker (Xyrauchen texanus), and woundfin (Plagopterus argentissimus).

Permit No. TE-083342

Applicant: Anthony A. Echelle, Stillwater, Oklahoma.

Applicant requests a new permit for research and recovery purposes to survey for and collect desert pupfish (Cyprinodon macularius) within Arizona, California, and New Mexico.

Permit No. TE-083036

Applicant: John S. Shackford, Edmond, Oklahoma.

Applicant requests a new permit for research and recovery purposes to conduct presence/absence surveys and nest monitoring for black-capped vireo (Vireo atricapillus) within Oklahoma.

Permit No. TE-083917

Applicant: Jake W. Tanner, Bloomfield, New Mexico.

Applicant requests a new permit for research and recovery purposes to conduct presence/absence surveys for southwestern willow flycatcher (Empidonax traillii extimus) within New Mexico.

Permit No. TE-083956

Applicant: Sandy A. Wolf, Tucson, Arizona.

Applicant requests a new permit for research and recovery purposes to survey for, capture, and affix radio transmitters to lesser long-nosed bats (Leptonycteris curasoae yerbabuenae) within Arizona.

Permit No. TE-081509

Applicant: Cecil R. Schwalbe, Tucson, Arizona.

Applicant requests a new permit for research and recovery purposes in order to establish and maintain a refugium population of Gila topminnow (Poeciliopsis occidentalis) within Arizona.

Permit No. TE-083050

Applicant: Stephen F. Austin State University, Nacogdoches, Texas.

Applicant requests a new permit for research and recovery purposes to survey for and collect American burying beetles (Nicrophorus americanus) within Texas.

Authority: 16 U.S.C. 1531, et seq.

Dated: March 15, 2004.
Bryan Arroyo,
Assistant Regional Director, Ecological Services, Region 2, Albuquerque, New Mexico.

[FR Doc. 04-6952 Filed 3-26-04; 8:45 am]

BILLING CODE 4310-55-P